DEPARTMENT OF TRANSPORTATION

Office of the Secretary

Certificates Of Public Convenience and Necessity and Foreign Air Carrier Permits; Weekly Applications

Notice of Applications for Certificates of Public Convenience and Necessity and Foreign Air Carrier Permits Filed Under Subpart B (formerly Subpart Q) during the Week Ending October 14, 2005. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22719.

Date Filed: October 13, 2005.

Due Date for Answers, Conforming Applications, or Motion to Modify Scope: November 3, 2005.

Description: Application of Safe Air International Inc. dba/ Island Express advising the Department that, in compliance with Section 204.7 Safe Air International intents to resume scheduled passenger operations as a commuter carrier.

Docket Number: OST-2000-7548.

Date Filed: October 13, 2005.

Due Date for Answers, Conforming Applications, or Motion to Modify Scope: November 3, 2005.

Description: Application of Continental Airlines, Inc., requesting renewal of its Route 682 certificate authorizing it to provide scheduled air transportation of persons, property, and mail between Newark, NJ and Lima, Peru, via the intermediate point Bogota, Columbia.

Docket Number: OST-2000-7559.

Date Filed: October 14, 2005.

Due Date for Answers, Conforming Applications, or Motion to Modify Scope: November 4, 2005.

Description: Application of Atlas Air, Inc., requesting renewal of its experimental certificate of public convenience and necessity for Route 796, authorizing it to provide scheduled foreign air transportation of property and mail between the terminal point Miami, FL, on the one hand, via the intermediate point Lima, Peru, and the coterminal points Manaus, Rio de Janeiro and Sao Paulo, Brazil, on the other hand, and beyond Brazil to Santiago, Chile.

Renee V. Wright,
Program Manager, Docket Operations, Federal Register Liaison.

[FR Doc. 05-21828 Filed 11-1-05; 8:45 am]

BILLING CODE 4910-62-P